DEPARTMENT OF HEALTH AND HUMAN SERVICES

Centers for Disease Control and Prevention

Disease, Disability, and Injury Prevention and Control Special Emphasis Panel (SEP): Portfolio Review of Single Gene Disorders and Disability

In accordance with section 10(a)(2) of the Federal Advisory Committee Act (Pub. L. 92-463), the Centers for Disease Control and Prevention (CDC) announces the following meeting:

Name: Disease, Disability, and Injury Prevention and Control Special Emphasis Panel (SEP): Portfolio Review of Single Gene Disorders and Disability.

Times and Dates: 9 a.m.-5 p.m., February 10, 2006 (Closed).

Place: National Center on Birth Defects and Developmental Disabilities, CDC, 12 Executive Park Drive, Atlanta, GA 30329, Telephone Number 404.498.3800.

Status: The meeting will be closed to the public in accordance with provisions set forth in section 552b(c)(4) and (6), Title 5 U.S.C., and the Determination of the Director, Management Analysis and Services Office, CDC, pursuant to Public Law 92-463.

Matters to be Discussed: The meeting will include the review and discussion of the Single Gene Disorders and Disability Team's strategies and activities.

For Further Information Contact: Esther Sumartojo, Acting Associate Director for Science and Public Health, National Center on Birth Defects and Developmental Disabilities, CDC, 1600 Clifton Road, NE., Mailstop E-87, Atlanta, GA 30333, Telephone Number 404.498.3800.

The Director, Management Analysis and Services Office, has been delegated the authority to sign Federal Register notices pertaining to announcements of meetings and other committee management activities, for both CDC and the Agency for Toxic Substances and Disease Registry.

Dated: January 12, 2006.
Alvin Hall,
Director, Management Analysis and Services Office, Centers for Disease Control and Prevention.

[FR Doc. E6-538 Filed 1-18-06; 8:45 am]

BILLING CODE 4163-18-P